NUCLEAR REGULATORY COMMISSION

[Docket No. 52-011]

Southern Nuclear Operating Company; Notice of Availability of the Draft Environmental Impact Statement for an Early Site Permit (ESP) at the Vogtle ESP Site and Associated Public Meeting

Notice is hereby given that the U.S. Nuclear Regulatory Commission (NRC, the Commission) has published NUREG-1872, “Draft Environmental Impact Statement (DEIS) for an Early Site Permit (ESP) at the Vogtle ESP Site.” The site is located on the southwest side of the Savannah River in eastern Burke County, Georgia. The application for the ESP was submitted by letter dated August 15, 2006, pursuant to 10 CFR Part 52. The application included a site redress plan in accordance with 10 CFR 52.17(c) and 52.25. If the site redress plan is incorporated in an approved ESP, then the applicant may carry out certain site preparation work and preliminary construction activities. A notice of receipt and availability of the application, which included the environmental report (ER), was published in the Federal Register on August 29, 2006, (71 FR 51222). A notice of acceptance for docketing of the application for the ESP was published in the Federal Register on September 26, 2006, (71 FR 56187). A notice of intent to prepare an environmental impact statement and to conduct the scoping process was published in the Federal Register on October 5, 2006, (71 FR 58882).

The purpose of this notice is to inform the public that NUREG-1872, “Draft Environmental Impact Statement (DEIS) for an Early Site Permit (ESP) at the Vogtle ESP Site,” is available for public inspection in the NRC Public Document Room (PDR) located at One White Flint North, 11555 Rockville Pike (first floor), Rockville, Maryland, 20852, or from the Publicly Available Records (PARS) component of NRC's Agencywide Documents Access and Management System (ADAMS), and will also be placed directly on the NRC Web site at http://www.nrc.gov. ADAMS is accessible from the NRC Web site at http://www.nrc.gov/reading-rm/adams.html (the Public Electronic Reading Room). The ADAMS accession number for Volume I of the DEIS is ML072410045 and Volume II of the DEIS is ML072410049. Persons who do not have access to ADAMS or who encounter problems in accessing the documents located in ADAMS, should contact the PDR reference staff at 1-800-397-4209, 301-415-4737, or by e-mail to pdr@nrc.gov. In addition, the Burke County Library, 130 Highway 24 South, Waynesboro, Georgia, has agreed to make the DEIS available for public inspection.

The NRC staff will hold a public meeting to present an overview of the DEIS and to accept public comments on the document. The public meeting will be held at the Augusta Technical College, Waynesboro Campus Auditorium, 216 Hwy 24 South, Waynesboro, Georgia, on Thursday, October 4, 2007. The meeting will convene at 7 p.m. and will continue until 10 p.m., as necessary. The meeting will be transcribed and will include: (1) A presentation of the contents of the DEIS, and (2) the opportunity for interested government agencies, organizations, and individuals to provide comments on the draft report. Additionally, the NRC staff will host informal discussions two hours before the start of the meeting at the Augusta Technical College, Waynesboro Campus Auditorium. No formal comments on the DEIS will be accepted by the NRC staff during the informal discussions. However, the staff will make available a court reporter from 5 p.m. until 7 p.m. in the Waynesboro Campus Auditorium to accept oral comments on the DEIS for inclusion into the official meeting minutes.

Otherwise, to be considered, comments must be provided either at the transcribed public meeting or in writing. Persons may register to attend or present oral comments at the meeting by contacting Ms. Cristina Guerrero, by telephone at 1-800-368-5642, extension 2981, or by Internet to the NRC at VOGTLE_EIS@nrc.gov, no later than September 28, 2007. Members of the public may also register to speak at the meeting within 15 minutes of the start of the meeting. Individual oral comments may be limited by the time available, depending on the number of persons who register. Members of the public who have not registered may also have an opportunity to speak, if time permits. Ms. Guerrero will need to be contacted no later than September 28, 2007, if special equipment or accommodations are needed to attend or present information at the public meeting, so that the NRC staff can determine whether the request can be accommodated.

Members of the public may send written comments on the DEIS for the Vogtle ESP to the Chief, Rulemaking, Directives, and Editing Branch, Division of Administrative Services, Office of Administration, Mailstop T-6D59, U.S. Nuclear Regulatory Commission, Washington, DC 20555-0001, and should cite the publication date and page number of this Federal Register Notice. Comments may also be delivered to Room T-6D59, Two White Flint North, 11545 Rockville Pike, Rockville, Maryland, from 7:30 a.m. to 4:15 p.m., during Federal workdays. To be considered written comments should be postmarked by November 28, 2007. Electronic comments may be sent by the Internet to the NRC at VOGTLE_EIS@nrc.gov. Electronic submissions should be sent no later than November 28, 2007. Comments will be available electronically and accessible through the NRC's PERR link at http://www.nrc.gov/reading-rm/adams.html.

FOR FURTHER INFORMATION CONTACT: Cristina Guerrero, Division of Site and Environmental Reviews, U.S. Nuclear Regulatory Commission, Washington, DC, 20555-0001. Ms. Guerrero may be contacted at the aforementioned telephone number or e-mail address.

Dated at Rockville, Maryland, this 4th day of September, 2007.
For the Nuclear Regulatory Commission.
James E. Lyons,
Director, Division of Site and Environmental Reviews Office of New Reactors.

[FR Doc. E7-18143 Filed 9-13-07; 8:45 am]

BILLING CODE 7590-01-P